DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: National Security Education Program NSEP Grants to Institutions of Higher Education); DD Forms 2729, 2730; OMB Number 0704-0366.

Type of Request: Extension.

Number of Respondents: 185.

Responses Per Respondent: 1.

Annual Responses: 185.

Average Burden Per Response: 8.75 hours.

Annual Burden Hours: 1,619.

Needs and Uses: The information collection requirement is necessary to obtain data on a candidate's background and aptitude in determining eligibility and selection to the Air Force Academy. The information is required by 10 U.S.C. 9346. Respondents are students who are applying for admission to the Air Force Academy. If the information on this form is not collected, the individual cannot be considered for admittance to the Air Force Academy.

Affected Public: Business or Other For-Profit; Not-For-Profit Institutions.

Frequency: On Occasion.

Respondent's Obligation: Required to Obtain or Retain Benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 24, 2001.
Patricia L. Toppings,
Alternate OSD Federal Register Liaison Officer, Department of Defense.

[FR Doc. 01-2697 Filed 1-31-01; 8:45 am]

BILLING CODE 5001-10-M